DEPARTMENT OF THE INTERIOR

National Park Service

Concession Contracts and Permits: Extension of Expiring Contracts for Up to One Year

AGENCY: National Park Service, Interior.

ACTION: Public notice.

SUMMARY: Pursuant to 36 CFR 51.23; public notice is hereby given that the National Park Service proposes to extend the following expiring concession contracts for a period of up to one year, or until such time as a new contract is executed, whichever occurs sooner.

SUPPLEMENTARY INFORMATION: All of the listed concession authorizations will expire by their terms on or before December 31, 2001. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Concessioner ID No. | Concessioner name | Park
ANIA903 | Katmai Guide Service | Aniakchak National Monument and Preserve.
ANIA904 | King Guiding Service | Aniakchak National Monument and Preserve.
ANIA906 | Cinder River Lodge | Aniakchak National Monument and Preserve.
ARO001 | Alaska Natural Hist Assn | Alaska Regional Office.
BADL001 | Oglala Sioux Tribe (Cedar Pass Lodge) | Badlands National Park.
BAND001 | Bandelier Trading, Inc | Badlands National Monument.
BEOL001 | Bent's Old Fort Historical Assn | Bent's Old Fort National Historic Site.
BISC002 | Biscayne National Underwater Park, Inc | Biscayne National Park.
BISO001 | LeConte Lodge Limited Partnership | Big South Fork National Recreation Area.
BISO003 | Bobby Gene & Gretta York | Big South Fork National Recreation Area.
BISO005 | Bernard Terry, The View Station Camp | Big South Fork National Recreation Area.
BISO006 | Bernard Terry, The View Bear Creek | Big South Fork National Recreation Area.
BRCA001 | Bryce Canyon Natural History Assn | Bryce Canyon National Park.
BUFF002 | Lost Valley C & L | Buffalo National River.
BUFF003 | Bennett's Canoe Rental | Buffalo National River.
BUFF004 | Gordon Motel, Inc | Buffalo National River.
BUFF005 | Silver Hill Canoe | Buffalo National River.
BUFF007 | Buffalo River Outfitters | Buffalo National River.
BUFF009 | Buffalo Outdoor Center | Buffalo National River.
BUFF010 | Buffalo River Outfitters | Buffalo National River.
BUFF011 | Riverview Motel Canoe | Buffalo National River.
BUFF012 | Buffalo Ridge Canoe Rental | Buffalo National River.
BUFF014 | Crockett's Canoe Rental | Buffalo National River.
BUFF015 | Buffalo Camp and Canoe | Buffalo National River.
BUFF016 | Dillard's Ozark Outfitters | Buffalo National River.
BUFF018 | Keller's Canoes | Buffalo National River.
BUFF019 | Dirst Canoe Rental | Buffalo National River.
BUFF022 | Wild Bill's Outfitter | Buffalo National River.
BUFF026 | Rose Trout Dock | Buffalo National River.
BUFF027 | Cotter Trout Dock | Buffalo National River.
BUFF028 | Buffalo River Outfitters | Buffalo National River.
BUFF030 | Sportsman's Resort | Buffalo National River.
BUFF031 | Newland Float Trips | Buffalo National River.
BUFF032 | Wild Bill's Outfitter | Buffalo National River.
BUFF033 | Woodsman's Fishing | Buffalo National River.
BUFF035 | Stanley Canoes Inc | Buffalo National River.
BUIS001 | Southern Seas, Inc | Buck Island Reef National Monument.
BUIS006 | Terero, Inc | Buck Island Reef National Monument.
BUIS008 | Llewellyn Westerman | Buck Island Reef National Monument.
BUIS014 | Francis J. Waters | Buck Island Reef National Monument.
BUIS015 | Milemark, Inc | Buck Island Reef National Monument.
BUIS019 | Carl Punzenberger | Buck Island Reef National Monument.
CACO002 | The Benz Corporation | Cape Cod National Seashore.
CACO006 | Hosteling International | Cape Cod National Seashore.
CAHA001 | Avon-Thornton Limited Partnership | Cape Hatteras National Seashore.
CAHA002 | Cape Hatteras Fishing Pier, Inc | Cape Hatteras National Seashore.
CAHA004 | Oregon Inlet Fishing Center, Inc | Cape Hatteras National Seashore.
CALO003 | Morris Marina, Kabin Kamps & Ferry Svc | Cape Lookout National Seashore.
CALO005 | Alger G. Willis Fishing Camps, Inc | Cape Lookout National Seashore.
CHAM001 | My Other Squeeze | Chamizal National Monument.
CHAM003 | Triple L Rolling Restaurant | Chamizal National Monument.
CHAM004 | Donut Factory | Chamizal National Monument.
CHAM005 | Party Time Ice Cream | Chamizal National Monument.
CHAM006 | Senor Elote | Chamizal National Monument.
CHAM007 | Coronado Prime Meats | Chamizal National Monument.
CHAM008 | Mama's Papas | Chamizal National Monument.
CHAM009 | Mando's Concessions | Chamizal National Monument.
CHAT001 | Chattahoochee Outdoor Center, Inc | Chattahoochee River National Recreation Area.
CHIS002 | Channel Islands Aviation, Inc | Channel Islands National Park.
COLM001 | Colorado National Monument Assn | Colorado National Monument.
COLO005 | Eastern National | Colonial National Historic Park.
COLO001 | Yorktown Shoppe | Colonial National Historical Park.
CUVA001 | American Youth Hostels | Cuyahoga Valley.
DENA030 | Kantishna Air Taxi | Denali National Park and Preserve.
DENA005 | Rainier Mountaineering, Inc | Denali National Park and Preserve.
DENA006 | Mountain Trip, Inc | Denali National Park and Preserve.
DENA008 | Alaska Mountaineering School | Denali National Park and Preserve.
DENA009 | Fantasy Ridge Alpinism, Inc | Denali National Park and Preserve.
DENA010 | American Alpine Institute | Denali National Park and Preserve.
DENA011 | National Outdoor Leadership School | Denali National Park and Preserve.
DENA013 | Wallace and Jerryne Cole (CampDenali and North Face Lodge | Denali National Park and Preserve.
DENA015 | Kantishna Roadhouse Company | Denali National Park and Preserve.
DENA016 | Denali Backcountry Lodge, Inc | Denali National Park and Preserve.
DEWA004 | Pepsi Cola Company | Delaware Water Gap National Recreation Area.
DINO001 | Adventure Bound, Inc | Dinosaur National Monument.
DINO002 | American River Touring Association | Dinosaur National Monument.
DINO003 | Colorado Outward Bound School | Dinosaur National Monument.
DINO005 | Holiday River Expeditions, Inc | Dinosaur National Monument.
DINO006 | Don Hatch River Expeditions, Inc | Dinosaur National Monument.
DINO008 | Dinosaur River Expeditions, Inc | Dinosaur National Monument.
DINO009 | OARS, Inc | Dinosaur National Monument.
DINO011 | National Outdoor Leadership School, Inc | Dinosaur National Monument.
DINO012 | Sheri Griffith River Expeditions, Inc | Dinosaur National Monument.
DINO014 | Eagle Outdoor Sports | Dinosaur National Monument.
DINO016 | Adrift Adventures, Inc | Dinosaur National Monument.
FOFR001 | Fort Frederican Assn | Fort Frederica National Monument.
FOLA001 | Fort Laramie Natural History Association | Fort Laramie National Historic Site.
GUMO001 | Carlsbad Caverns Association | Guadalupe Mountains National Monument.
FOMC001 | Evelyn Hill, Inc | Fort McHenry National Monument and Historic Site.
FOSU001 | Fort Sumter Tours, Inc | Fort Sumter National Monument.
GAAR001 | Richard Guthrie, Reg. Guide | Gates of the Arctic National Park and Preserve.
GAAR002 | Highlander Guide Service | Gates of the Arctic National Park and Preserve.
GEWA001 | George Washington Birthplace Assn | George Washington National Monument.
GLAC003 | Muleshoe Outfitters | Glacier National Park.
GLAC004 | Belton Chalets | Glacier National Park.
GLAC004A | Glacier Wilderness Guides, Inc | Glacier National Park.
GLBA001 | Glacier Bay Park Concessions | Glacier Bay National Park and Preserve.
GLBA008 | Alaska Discovery, Inc | Glacier Bay National Park and Preserve.
GLBA009 | Alaska Discovery, Inc | Glacier Bay National Park and Preserve.
GLBA010 | Gary C. Gray, Reg. Guide | Glacier Bay National Park and Preserve.
GLBA011 | Chilkat Guides | Glacier Bay National Park and Preserve.
GLBA012 | Colorado River/Trail Exp., Inc | Glacier Bay National Park and Preserve.
GLBA013 | James Henry River Journeys | Glacier Bay National Park and Preserve.
GLBA014 | Mountain Travel/Sobek | Glacier Bay National Park and Preserve.
GLBA015 | Chicagaof Charters | Glacier Bay National Park and Preserve.
GLBA016 | Grand Pacific Charters | Glacier Bay National Park and Preserve.
GLBA017 | Wilderness River Outfitters | Glacier Bay National Park and Preserve.
GLBA018 | Glacier Guides | Glacier Bay National Park and Preserve.
GLBA019 | Marine Adventure Sailing Tours | Glacier Bay National Park and Preserve.
GLBA020 | Northern Lights Haven | Glacier Bay National Park and Preserve.
GLBA021 | Seawind Charters | Glacier Bay National Park and Preserve.
GLBA025 | Princeton Hall, Ltd | Glacier Bay National Park and Preserve.
GLBA026 | Lisianski Charters | Glacier Bay National Park and Preserve.
GLBA027 | Gustavus Marine | Glacier Bay National Park and Preserve.
GLBA028 | Elfin Cove Sportfishing Lodge | Glacier Bay National Park and Preserve.
GLBA029 | Johnny's East River Lodge | Glacier Bay National Park and Preserve.
GLBA030 | Dolphin Charters | Glacier Bay National Park and Preserve.
GLBA031 | Glacier Bay Country Inn | Glacier Bay National Park and Preserve.
GLBA032 | Sea Wolf Wilderness Adventures | Glacier Bay National Park and Preserve.
GLBA033 | Gary C. Gray, Reg. Guide | Glacier Bay National Park and Preserve.
GLBA035 | Glacier Bay Sea Kayaks | Glacier Bay National Park and Preserve.
GLBA037 | Clipper Cruise Line | Glacier Bay National Park and Preserve.
GLBA038 | Special Expeditions | Glacier Bay National Park and Preserve.
GLBA039 | Alaska Sightseeing/Cruise West | Glacier Bay National Park and Preserve.
GLBA041 | Glacier Bay Park Concessions | Glacier Bay National Park and Preserve.
GLBA044 | Glacier Bay Adventures | Glacier Bay National Park and Preserve.
GLBA901 | Gary C. Gray, Reg. Guide | Glacier Bay National Park and Preserve.
GLBA902 | John H. Latham, Reg. Guide | Glacier Bay National Park and Preserve.
GLCA017 | Arizona Dept. of Economic Security | Glen Canyon National Recreation Area.
GLCA020 | High Desert Adventures | Glen Canyon National Recreation Area.
GRSM001 | Cades Cove Campground Store, Inc | Great Smoky Mountains National Park.
GRSM003 | Tammy Shular | Great Smoky Mountains National Park.
GRSM004 | Cades Cove Riding Stables, Inc | Great Smoky Mountains National Park.
GRSM005 | Cherokee Boys Club | Great Smoky Mountains National Park.
GRSM006 | McCarter's Riding Stables, Inc | Great Smoky Mountains National Park.
GRSM007 | Smokemont Riding Stables, Inc | Great Smoky Mountains National Park.
GRSM008 | Smoky Mountain Riding Stables, Inc | Great Smoky Mountains National Park.
GRSM011 | Lon Nations (Deep Creek Riding Stables) | Great Smoky Mountains National Park.
GRSM010 | Great Smoky Mountains Natural History Assn | Great Smoky Mountains National Park.
GRTE003 | Rex G. & Ruth G. Maughan (Signal Mountain Lodge) | Grand Teton National Park.
GUIS001 | Dudley Food & Beverage, Inc | Gulf Islands National Seashore.
GUIS003 | Pan Isles, Inc | Gulf Islands National Seashore.
HAVO002 | Hawaii Natural History Assn | Hawaii Volcanoes National Park.
HOSP001 | City of Hot Springs Advertising and Promotions Comm | Hot Springs National Park.
ISRO001 | The Royale Line, Inc | Isle Royale National Park.
ISRO006 | Isle Royale Seaplane Service, Inc | Isle Royale National Park.
ISRO007 | Grand Portage-Isle Royale Transportation, Line | Isle Royale National Park.
JEFF001 | Compass Group USA | Jefferson National Expansion Memorial.
JEFF002 | Jefferson National Expansion Historical Assn | Jefferson National Expansion Memorial.
KALA001 | Molokai Mule Ride, Inc | Kalaupapa National Historical Park.
KATM002 | No See Um Lodge | Katmai National Park.
KATM004 | Shaska Ventures Inc | Katmai National Park.
KATM005 | Branch River Air Service | Katmai National Park.
KATM006 | Bristol Bay Sportfishing | Katmai National Park.
KATM007 | Mike Cusack's King Salmon Lodge | Katmai National Park.
KATM901 | Rainbow River Lodge | Katmai National Park and Preserve.
KATM902 | King Guiding Service | Katmai National Park and Preserve.
LABE001 | Lava Beds Natural History Assn | Lave Beds National Monument.
LACL002 | Alaska Wilderness Trips | Lake Clark National Park.
LACL901 | Northward Bound | Lake Clark National Park.
LAME001 | Forever Resorts, Inc (Cottonwood Cove Resort) | Lake Mead National Recreation Area.
LAME005 | Forever Resorts, Inc (Callville Bay Resort) | Lake Mead National Recreation Area.
LAME007 | Lake Mohave Resort | Lake Mead National Recreation Area.
LIBI003 | Institute for Micro Business | Little Bighorn National Monument.
MEVE001 | Mesa Verde Company (Aramark) | Mesa Verde National Park.
MORA001 | Rainier Mountaineering | Mount Rainier National Park.
MORU001 | Amfac Recreational Services, Inc | Mount Rushmore National Memorial.
MWRRO001 | Eastern NP & Monuments | Midwest Regional Office.
NATR001 | Little Mountain Service Center, Inc | Natchez Trace Parkway.
NATR004 | Craftsmen's Guild of Mississippi, Inc | Natchez Trace Parkway.
NERO001 | Eastern National | Northeast Regional Office.
NOAT901 | Midnight Sun Adventures | Noatak National Preserve.
NOAT904 | Arctic Rivers Guide Service | Noatak National Preserve.
NOAT906 | Mountain Monarchs of Alaska | Noatak National Preserve.
OZAR002 | Jack's Fork Canoe Rental | Ozark National Scenic Riverway.
OZAR005 | Wild River Canoe | Ozark National Scenic Riverway.
OZAR007 | Silver Arrow Canoe Rental | Ozark National Scenic Riverway.
OZAR008 | Round Spring Canoe | Ozark National Scenic Riverway.
OZAR010 | Deer Run Campground | Ozark National Scenic Riverway.
OZAR011 | Current River Canoe | Ozark National Scenic Riverway.
OZAR013 | Eminence Canoe Rental | Ozark National Scenic Riverway.
OZAR014 | Windy's Canoe Rental | Ozark National Scenic Riverway.
OZAR015 | Big Spring Lodge | Ozark National Scenic Riverways.
OZAR018 | Two Rivers Canoe | Ozark National Scenic Riverway.
OZAR020 | Jadwin Canoe Rental | Ozark National Scenic Riverway.
OZAR023 | Hawthorne Canoe Rental | Ozark National Scenic Riverway.
OZAR024 | The Landing Canoe | Ozark National Scenic Riverway.
OZAR025 | Big Spring Canoe Rental | Ozark National Scenic Riverway.
OZAR028 | Running River Canoe | Ozark National Scenic Riverway.
OZAR036 | Maggard Canoe Rental | Ozark National Scenic Riverway.
OZAR040 | Carr's Tube Rental | Ozark National Scenic Riverway.
OZAR049 | Smalley's Motel Tube | Ozark National Scenic Riverway.
OZAR050 | Big Spring River Camp | Ozark National Scenic Riverway.
REDW001 | American Youth Hostels, Inc | Redwoods National Park.
ROLA003 | Ross Lake Resort, Inc | Ross Lake National Recreation Area.
ROMO005 | Rockey Mounain Nature Assn | Rocky Mountain National Park.
SLBE005 | Manitou Island Transit | Sleeping Bear Dunes National Lakeshore.
SLBE008 | Blough Firewood | Sleeping Bear Dunes National Lakeshore.
USAR001 | Division of Vocational Rehabilitation | U.S.S. Arizona Memorial.
VAFO001 | Romano's School Bus Service, Inc | Valley Forge National Historic Site.
VIIS007 | Maho, Inc | Virgin Islands National Park.
WHSA001 | White Sands Souvenirs | White Sands National Monument.
WICA001 | State of South Dakota, Dept. of Human Res | Wind Cave National Park.
WRBR001 | Kitty Hawk Aero Tours, Inc | Wright Brothers National Monument.
YELL102 | Beardsley Outfitting and Guilding Service | Yellowstone National Park.
YELL103 | Triangle X Ranch | Yellowstone National Park.
YELL104 | Horse Creek Ranch | Yellowstone National Park.
YELL105 | Bear Paw Outfitters | Yellowstone National Park.
YELL106 | Jackson Hole Llamas | Yellowstone National Park.
YELL107 | Wyoming Wilderness Outfitters | Yellowstone National Park.
YELL108 | Fox Creek Pack Station | Yellowstone National Park.
YELL110 | Diamond J. Ranch | Yellowstone National Park.
YELL113 | 7D Ranch | Yellowstone National Park.
YELL114 | Wilderness Connection | Yellowstone National Park.
YELL115 | Gary Fales Outfitting | Yellowstone National Park.
YELL117 | Mountain Trails Outfitters | Yellowstone National Park.
YELL118 | Yellowstone Mountain Guides | Yellowstone National Park.
YELL120 | Slough Creek Outfitters | Yellowstone National Park.
YELL121 | Yellowstone Llamas | Yellowstone National Park.
YELL122 | Sheep Mesa Outfitters | Yellowstone National Park.
YELL123 | Castle Creek Outfitters & Guide Service | Yellowstone National Park.
YELL124 | Jake's Horses | Yellowstone National Park.
YELL125 | Big Bear Lodge, Inc | Yellowstone National Park.
YELL126 | Heimer Outfitting | Yellowstone National Park.
YELL127 | Medicine Lake Outfitters | Yellowstone National Park.
YELL128 | North Yellowstone Outfitters | Yellowstone National Park.
YELL130 | Skyline Guest Ranch | Yellowstone National Park.
YELL131 | Hell's A Roarin' Outfitters | Yellowstone National Park.
YELL132 | Nine Quarter Circle Ranch | Yellowstone National Park.
YELL134 | John Henry Lee Outfitters | Yellowstone National Park.
YELL137 | Wilderness Pack Trips | Yellowstone National Park.
YELL138 | Rendezvous Outfitters | Yellowstone National Park.
YELL140 | Black Otter Guide Service | Yellowstone National Park.
YELL141 | Lost Fork Ranch | Yellowstone National Park.
YELL144 | Lone Mountain Ranch | Yellowstone National Park.
YELL145 | Thorofare Outfitting | Yellowstone National Park.
YELL146 | K Bar Z Guest Ranch | Yellowstone National Park.
YELL147 | Press Stephens | Yellowstone National Park.
YELL148 | Teton Ridge Ranch | Yellowstone National Park.
YELL149 | Tom Toolson | Yellowstone National Park.
YELL156 | John R. Winter Outfitter and Guide | Yellowstone National Park.
YELL157 | Beartooth Plateau Outfitters | Yellowstone National Park.
YELL158 | Wilderness Trails | Yellowstone National Park.
YELL159 | Bear Track Outfitters | Yellowstone National Park.
YELL160 | MJ Outfitters | Yellowstone National Park.
YELL162 | Grizzly Ranch | Yellowstone National Park.
YELL164 | Gallatin Way Ranch | Yellowstone National Park.
YELL165 | Gunsel Horse Adventures | Yellowstone National Park.
YELL166 | Elkhorn Ranch | Yellowstone National Park.
YELL168 | Llamas of West Yellowstone | Yellowstone National Park.
YELL169 | Shoshone Lodging Outfitters | Yellowstone National Park.
YELL170 | Diamond K Outfitters | Yellowstone National Park.
ZION004 | Zion Natural History Association | Zion National Park.

EFFECTIVE DATE: January 2, 2002.

FOR FURTHER INFORMATION CONTACT: Cynthia Orlando, Concession Program Manager, National Park Service, Washington, DC 20240, Telephone 202/565-1210.

Dated: November 29, 2001.
Cynthia Orlando,
Concession Program Manager, Park Operations and Education.

[FR Doc. 01-31891 Filed 12-27-01; 8:45 am]

BILLING CODE 4310-70-M